DEPARTMENT OF AGRICULTURE

Forest Service

Notice of Proposed New Fee Sites

AGENCY: Forest Service, Agriculture (USDA).

ACTION: Notice of proposed new fee sites.

SUMMARY: The Sawtooth National Forest is proposing to charge new fees at multiple recreation sites listed in SUPPLEMENTARY INFORMATION of this notice. Funds from fees would be used for operation, maintenance, and improvements of these recreation sites. Many sites have recently been reconstructed or amenities are being added to improve services and experiences. An analysis of nearby developed recreation sites with similar amenities shows the proposed fees are reasonable and typical of similar sites in the area.

DATES: If approved, the new fees would be implemented no earlier than six months following the publication of this notice in the Federal Register.

ADDRESSES: Sawtooth National Forest, 102 First Street East, Fairfield, ID 83327.

FOR FURTHER INFORMATION CONTACT: Marty Gmelin, Fairfield District Ranger, 208-764-3461 or martin.gmelin@usda.gov.

SUPPLEMENTARY INFORMATION: The Federal Lands Recreation Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Five Points, Pioneer, Willow Creek Transfer Camp, and Bear Creek Transfer Campgrounds are proposed at $10 per night for a single site and $20 per night for double sites. The Pioneer Group Campground is proposed for $100 per night for up to 50 people. A $5 use fee is proposed for the Big Smoky RV Dump Station. A $5 day-use fee per vehicle is proposed for Baumgardner Hot Pool. The full suite of Interagency passes would be honored.

New fees would provide increased visitor opportunities, as well as increased staffing to address operations and maintenance needs that are intended to enhance customer service. Once public involvement is complete, these new fees will be reviewed by a Recreation Resource Advisory Committee prior to a final decision and implementation.

Advanced reservations for some campgrounds and group sites will be available through www.recreation.gov or by calling 1-877-444-6777. The reservation service charges an $8.00 fee for reservations.

Deborah Hollen,
Acting Associate Deputy Chief, National Forest System.

[FR Doc. 2022-21310 Filed 9-29-22; 8:45 am]

BILLING CODE 3411-15-P